DEPARTMENT OF THE TREASURY

Office of Foreign Assets Control

Sanctions Actions Pursuant to Executive Orders 13224, 13382, 13599, 13622, 13645, and the Iranian Transactions and Sanctions Regulations

AGENCY: Office of Foreign Assets Control, Treasury.

ACTION: Notice.

SUMMARY: The Treasury Department's Office of Foreign Assets Control (OFAC) is publishing the names of 22 persons whose property and interests in property are blocked pursuant to one or more of the following authorities: Executive Order (E.O.) 13224, 13382, E.O. 13599, E.O. 13622, E.O. 13645, and the Iranian Transactions and Sanctions Regulations (ITSR), as well as the names of 6 vessels that OFAC has identified as blocked property of one or more person whose property and interests in property are blocked. Finally, OFAC is publishing revised information for 2 persons on OFAC's list of Specially Designated Nationals and Blocked Persons (SDN List).

DATES: OFAC's actions described in this notice were effective August 29, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On August 29, 2014, OFAC blocked the property and interests in property of the following 5 persons pursuant to E.O. 13224, “Blocking Property and Prohibiting Transactions With Persons Who Commit, Threaten To Commit, or Support Terrorism”:

Individual

1. HOSSEINI, Sayyed Jabar; DOB 03 Oct 1955; Additional Sanctions Information—Subject to Secondary Sanctions (individual) [SDGT] [IFSR] (Linked To: LINER TRANSPORT KISH).

Entities

1. PIONEER LOGISTICS (a.k.a. PIONEER LOGISTICS HAVACILIK), EGS Bloklari B 1 Blok K 1, D114 Yesilkoy Bakirkoy, Istanbul, Turkey; Additional Sanctions Information—Subject to Secondary Sanctions [SDGT] [IFSR] (Linked To: MAHAN AIR).

2. ASIAN AVIATION LOGISTICS COMPANY LIMITED, 805 Srinakarin Road, 2nd Floor Zone A 21 Tower, Suan Luang, Bangkok 10540, Thailand; Additional Sanctions Information—Subject to Secondary Sanctions [SDGT] [IFSR] (Linked To: MAHAN AIR).

3. CASPIAN AIRLINES (a.k.a. CASPIAN AIR), Mehrabad International Airport, Tehran, Iran; No. 5 Sabounchi St., Beheshti Ave., Tehran, Iran; Email Address casp_avia@hotmail.com; Additional Sanctions Information—Subject to Secondary Sanctions [SDGT] [IFSR].

4. MERAJ AIR, Meraj Blvd., First of Mohammad Ali Ave., Azadi Sq., Tehran, Iran; Additional Sanctions Information—Subject to Secondary Sanctions [SDGT] [IFSR].

On August 29, 2014, OFAC published the following revised information for 1 person on OFAC's SDN List whose property and interests in property is blocked pursuant to E.O. 13224, “Blocking Property and Prohibiting Transactions With Persons Who Commit, Threaten To Commit, or Support Terrorism”:

1. POUYA AIR (a.k.a. POUYA AIRLINES; a.k.a. YAS AIR; a.k.a. YAS AIR KISH; a.k.a. YASAIR CARGO AIRLINE), Mehrabad International Airport, Next to Terminal No. 6, Tehran, Iran; Number 37, Ahour Alley, Shariati St., Tehran, Iran; Web site www.pouyaair.com; Email Address info@pouyaair.com; Additional Sanctions Information—Subject to Secondary Sanctions [SDGT] [IRGC] [IFSR].

On August 29, 2014, OFAC blocked the property and interests in property of the following 6 persons pursuant to E.O. 13382, “Blocking Property of Weapons of Mass Destruction Proliferators and Their Supporters”:

Individuals

1. GHOLAMI, Ali; Additional Sanctions Information—Subject to Secondary Sanctions; Passport 24471008 (Iran); Managing Director (individual) [NPWMD] [IFSR] (Linked To: SAZEH MORAKAB CO. LTD).

2. BOZORG, Marzieh; Additional Sanctions Information—Subject to Secondary Sanctions; Passport 16650550 (Iran); Commercial Director (individual) [NPWMD] [IFSR] (Linked To: SAZEH MORAKAB CO. LTD).

3. IMANIRAD, Mohammad Javad; Additional Sanctions Information—Subject to Secondary Sanctions; Passport S7127156 (Iran) (individual) [NPWMD] [IFSR] (Linked To: ALUMINAT).

4. IMANIRAD, Arman; DOB 07 Jun 1984; POB Arak, Iran; Additional Sanctions Information—Subject to Secondary Sanctions; Passport WSl 88312 (Canada) (individual) [NPWMD] [IFSR] (Linked To: ALUMINAT).

Entities

1. SAZEH MORAKAB CO. LTD, Unit 1, Third Floor, No. 183 Rashid St., Tehran, Tehi-an-Pars, Iran; Additional Sanctions Information—Subject to Secondary Sanctions [NPWMD] [IFSR].

2. NEFERTITI SHIPPING COMPANY (a.k.a. NEFERTITI SHIPPING; a.k.a. NEFERTITI SHIPPING AND MARITIME SERVICES), 6, El Horeya Rd., El Attarein, Alexandria, Egypt; Inside Damietta Port, New Damietta City, Damietta, Egypt; 403, El Nahda St., Port Said, Port Said, Egypt [NPWMD] [IFSR] (Linked To: ISLAMIC REPUBLIC OF IRAN SHIPPING LINES).

On August 29, 2014, OFAC published the following revised information for 1 person on OFAC's SDN List whose property and interests in property are blocked pursuant to E.O. 13382, “Blocking Property of Weapons of Mass Destruction Proliferators and Their Supporters”:

1. SHAHID HEMMAT INDUSTRIAL GROUP (a.k.a. ARDALAN MACHINERIES COMPANY; a.k.a. SAHAND ALUMINUM PARTS INDUSTRIAL COMPANY; a.k.a. “ARMACO”; a.k.a. “SAPICO”; a.k.a. “SHIG”), Damavand Tehran Highway, Tehran, Iran; P.O. Box 16595-159, Tehran, Iran; No. 5, Eslami St., Golestane Sevvom St., Pasdaran St., Tehran, Iran; Additional Sanctions Information—Subject to Secondary Sanctions [NPWMD] [IFSR].

On August 29, 2014, OFAC identified the following 5 persons whose property and interests in property are blocked pursuant to E.O. 13599, “Blocking Property of the Government of Iran and Iranian Financial Institutions,” and the ITSR:

Entities

1. KHAVARMIANEH BANK (a.k.a. MIDDLE EAST BANK), No. 22, Second Floor Sabounchi St., Shahid Beheshti Ave., Tehran, Iran; SWIFT/BIC KHMI IR TH; All offices worldwide [IRAN].

2. KISH INTERNATIONAL BANK (a.k.a. KISH INTERNATIONAL BANK OFFSHORE COMPANY PJS), NBO-9, Andisheh Blvd., Sanayi Street, Kish Island, Iran; All offices worldwide [IRAN].

3. GHARZOLHASANEH RESALAT BANK, Biside the No. 1 Baghestan Alley, Saadat Abad Ave., Kaj Sq., Tehran, Iran; All offices worldwide [IRAN].

4. KAFOLATBANK (a.k.a. CJSC KAFOLATBANK), Apartment 4/1, Academics Rajabovs Street, Dushanbe, Tajikistan; SWIFT/BIC KACJ TJ 22; All offices worldwide [IRAN].

5. GHAVAMIN BANK (a.k.a. “GHAVAMIN FINANCIAL & CREDIT INS.”), No. 252 Milad Tower, Beginning of Africa Blvd., Argentina Sq, Tehran, Iran; All offices worldwide [IRAN].

On August 29, 2014, OFAC blocked the property and interests in property of the following one person pursuant to E.O. 13622, “Authorizing Additional Sanctions With Respect to Iran”:

Entity

1. ASIA BANK (a.k,a. CHEMEXIMBANK; a.k.a. COMMERCIAL BANK `CHEMEXIMBANK' LTD), Offices 7-15, 67-69, 4 ul fiinlca, Moscow 109012, Russia; 267-270 offices, 4, Ilinlca Street, Moscow 109012, Russia; SWIFT/BIC CHEB RU MM; Web site www.chemexim.ru; alt. Web site www.asia-bank.ru; BIK (RU) 044585333; All offices worldwide [EO13622].

On August 29, 2014, OFAC blocked the property and interests in property of the following 5 persons pursuant to E.O. 13645, “Authorizing the Implementation of Certain Sanctions Set Forth in the Iran Freedom and Counter-Proliferation Act of 2012 and Additional Sanctions With Respect To Iran”:

Individuals

1. POLAT, Muzaffer; DOB 20 Jul 1975; POB Van, Turkey; nationality Turkey; Additional Sanctions Information—Subject to Secondary Sanctions; Executive Order 13645 Determination—Material Support; Passport UO8215942 (Turkey); alt. Passport U05400998 (Turkey); Residency Number 784197524398415 (United Arab Emirates); ah. Residency Number 062368408 (United Arab Emirates); alt. Residency Number 122808985 (United Arab Emirates) (individual) [E013645] (Linked To: PETRO ROYAL FZE).

2. KADDOURI, Abdelhak; DOB 30 Apr 1977; POB Leuzigen, Bern, Swhzerland; nationality Switzerland; citizen Switzerland; Additional Sanctions Information—Subject to Secondary Sanctions; Executive Order 13645 Determination—Material Support (individual) [EOl3645].

3. SEYYEDI, Seyedeh Hanieh Seyed Nasser Mohammad; DOB 20 Aug 1985; POB Orumiyeh, Iran; nationality Iran; Additional Sanctions Information—Subject to Secondary Sanctions; Executive Order 13645 Determination—Material Support; Passport K95579809 (Iran); ah. Passport XI3556955 (Iran) (individual) [E013645].

Entities

1. LISSOME MARINE SERVICES LLC, Unit 1202, Al Attar Tower, Sheildi Zayed Road, Dubai, United Arab Emirates; Additional Sanctions Information—Subject to Secondary Sanctions; Executive Order 13645 Determination—Material Support; Vessel Registration Identification IMO 5689933 [E013645] (Linked To: NATIONAL IRANIAN TANKER COMPANY).

2. FAYLACA PETROLEUM (a.k.a. FAYLACA PETROLEUM SUPPLIERS EST.), Office No. 209, Tower A, Al Majarah, P.O. Box 44636, Sharjah, Dubai, United Arab Emirates; Web site www.faylacapetroleum.com; Email Address info@faylacapetroleum.com; Additional Sanctions Information—Subject to Secondary Sanctions; Executive Order 13645 Determination—Material Support; License 113988 [E013645].

On August 29, 2014, OFAC identified 6 vessels as blocked property of one or more person whose property and interests in property are blocked pursuant to E.O. 13645, “Authorizing the Implementation of Certain Sanctions Set Forth in the Iran Freedom and Counter-Proliferation Act of 2012 and Additional Sanctions With Respect To Iran”:

Vessels

1. KATERINA 1 Crude Oil Tanker Panama flag; Vessel Registration Identification IMO 9031959 (vessel) [EOl3645].

2. GAS CAMELLIA LPG Tanker St. Kitts and Nevis flag; Vessel Registration Identification IMO 8803381 (vessel) [E013645].

3. MARIA Chemical/Products Tanker St. Kitts and Nevis flag; Vessel Registration Identification IMO 9110626 (vessel) [EOl3645].

4. SUN OCEAN Chemical/Products Tanker Panama flag; Vessel Registration Identification IMO 9408358 (vessel) [E013645].

5. TESS Crude Oil Tanker St. Kitts and Nevis flag; Vessel Registration Identification IMO 8913564 (vessel) [EOl3645].

6. NAMI Chemical/Products Tanker Panama flag; Vessel Registration Identification IMO 8419178 (vessel) [EOl3645].

Dated: September 8, 2014.
Adam J. Szubin,
Director, Office of Foreign Assets Control.

[FR Doc. 2014-21898 Filed 9-12-14; 8:45 am]

BILLING CODE 4810-AL-P